SURFACE TRANSPORTATION BOARD

[Docket No. AB 290 (Sub-No. 391X)]

Norfolk Southern Railway Company—Discontinuance of Service Exemption—in Rockingham and Shenandoah Counties, VA

Norfolk Southern Railway Company (NSR) filed a verified notice of exemption under 49 CFR pt. 1152 subpart F—Exempt Abandonments and Discontinuances of Service to discontinue service over an approximately 15.5-mile rail line (the Line) extending from milepost B-84.0 at Mt. Jackson, Va. to milepost B-99.5 at Broadway, Va. in Rockingham and Shenandoah Counties, Va. The Line traverses U.S. Postal Service Zip Codes 22815, 22842, 22844, 22847, and 22853.

NSR has certified that (1) no local traffic has moved over the Line for at least two years; (2) no overhead traffic has moved over the Line for at least two years; (3) no formal complaint filed by a user of rail service on the Line (or by a state or local government entity acting on behalf of such user) regarding cessation of service over the Line is pending either with the Surface Transportation Board or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on January 22, 2017, unless stayed pending reconsideration. Petitions to stay that do not involve environmental issues and formal expressions of intent to file an OFA to subsidize continued rail service under 49 CFR 1152.27(c)(2) ¹ must be filed by December 30, 2016.² Petitions to reopen must be filed by January 12, 2017, with the Surface Transportation Board, 395 E Street SW., Washington, DC 20423-0001.

¹ Each OFA must be accompanied by the filing fee, which is currently set at $1,700. See Regulations Governing Fees for Servs. Performed in Connection with Licensing & Related Servs.—2016 Update, EP 542 (Sub-No. 24) (STB served Aug. 2, 2016).

² Because this is a discontinuance proceeding and not an abandonment, interim trail use/rail banking and public use conditions are not appropriate. Because there will be an environmental review during abandonment, this discontinuance does not require an environmental review.

A copy of any petition filed with the Board should be sent to NSR's representative: Crystal M. Zorbaugh, Baker & Miller PLLC, 2401 Pennsylvania Avenue NW., Suite 300, Washington, DC 20037.

If the verified notice contains false or misleading information, the exemption is void ab initio.

Board decisions and notices are available on our Web site at WWW.STB.GOV.

Decided: December 20, 2016.
By the Board, Rachel D. Campbell, Director, Office of Proceedings.
Raina S Contee,
Clearance Clerk.

[FR Doc. 2016-31041 Filed 12-22-16; 8:45 am]

BILLING CODE 4915-01-P